ENVIRONMENTAL PROTECTION AGENCY

[ER-FRL-9019-4]

Environmental Impact Statements; Notice of Availability

Responsible Agency: Office of Federal Activities, General Information (202) 564-7146 or http://www.epa.gov/compliance/nepa/.

Weekly receipt of Environmental Impact Statements

Filed 01/26/2015 Through 01/30/2015

Pursuant to 40 CFR 1506.9.

Notice

Section 309(a) of the Clean Air Act requires that EPA make public its comments on EISs issued by other Federal agencies. EPA's comment letters on EISs are available at: http://www.epa.gov/compliance/nepa/eisdata.html.

EIS No. 20150027, Revised Final EIS, USFWS, AK, Arctic National Wildlife Refuge Revised Comprehensive Conservation Plan, Review Period Ends: 03/09/2015, Contact: Stephanie Brady 907-306-7448.

Amended Notices

EIS No. 20140311, Draft EIS, BLM, 00, Southeastern States Draft Resource Management Plan, Comment Period Ends: 03/16/2015, Contact: Gary Taylor 601-977-5413.

Revision to FR Notice Published 10/31/2014; Extending Comment Period from 1/29/2015 to 03/16/2015.

EIS No. 20140371, Draft EIS, USACE, CA, South San Francisco Bay Shoreline Phase I, Comment Period Ends: 02/23/2015, Contact: William DeJager 415-503-6866.

Revision to FR Notice Published 12/19/2014; Extending the Comment Period from 02/02/2015 to 02/23/2015.

Dated: February 3, 2015.
Cliff Rader,
Director, NEPA Compliance Division, Office of Federal Activities.

[FR Doc. 2015-02472 Filed 2-5-15; 8:45 am]

BILLING CODE 6560-50-P